DEPARTMENT OF TRANSPORTATION

Federal Aviation Administration

Notice of Intent To Rule on Application To Impose and Use the Revenue From a Passenger Facility Charge (PFC) at Modesto City—County—Harry Sham Field, Modesto, CA

AGENCY: Federal Aviation Administration (FAA), DOT.

ACTION: Notice of Intent to Rule on Application.

SUMMARY: The FAA proposes to rule and invites public comment on the application to impose and use the revenue from a PFC at Modesto City—County—Harry Sham Field under the provisions of the Aviation Safety and Capacity Expansion Act of 1990 (Title IX of the Omnibus Budget Reconciliation Act of 1990) (Public Law 101-508) and Part 158 of the Federal Aviation Regulations (14 CFR Part 158).

DATES: Comments must be received on or before May 25, 2001.

ADDRESSES: Comments on this application may be mailed or delivered in triplicate to the FAA at the following address: Federal Aviation Administration, Airports Division, 15000 Aviation Blvd., Lawndale, CA 90261, or San Francisco Airports District Office, 831 Mitten Road, Room 210, Burlingame, CA 94010-1303. In addition, one copy of any comments submitted to the FAA must be mailed or delivered to Mr. Howard L. Cook, Airport Manager of the Modesto City-County-Harry Sham Field, at the following address: 617 Airport Way, Modesto, CA 95354. Air carriers and foreign air carriers may submit copies of written comments previously provided to the city of Modesto under section 158.23 of Part 158.

FOR FURTHER INFORMATION CONTACT: Marlys Vandervelde, Airports Program Analyst, San Francisco Airports District Office, 831 Mitten Road, Room 210, Burlingame, CA 94010-1303, Telephone (650) 876-2806. The application may be reviewed in person at this same location.

SUPPLEMENTARY INFORMATION: The FAA proposes to rule and invites public comment on the application to impose and use the revenue from a PFC at Modesto City—County—Harry Sham field under the provisions of the Aviation Safety and Capacity Expansion Act of 1990 (Title IX of the Omnibus Budget Reconciliation Act of 1990) (Public Law 101-508) and Part 158 of the Federal Aviation Regulations (14 CFR Part 158).

On April 13, 2001, the FAA determined that the application to impose and use the revenue from a PFC submitted by the city of Modesto was substantially complete within the requirements of section 158.25 of Part 158. The FAA will approve or disapprove the application, in whole or in part, not later than July 12, 2001.

The following is a brief overview of the impose and use application No. 01-06-C-00-MOD:

Level of proposed PFC: $3.00.

Proposed charge effective date: September 1, 2001.

Proposed charge expiration date: September 1, 2003.

Total estimated PFC revenue: $124,180.

Brief description of the proposed projects: Replace General Aviation and Terminal Security Lights, Purchase Runway Sweeper and Equipment Shelter, General Aviation and Terminal Service Road Seal, Air Carrier and Transient Aircraft Apron Expansion and Reconstruction, and Conduct Airport Master Plan and Environmental Impact Report.

Class or classes of air carriers which the public agency has requested not be required to collect PFCs: None.

Any person may inspect the application in person at the FAA office listed above under FOR FURTHER INFORMATION CONTACT and at the FAA Regional Airports office located at: Federal Aviation Administration, Airports Division, 15000 Aviation Blvd., Lawndale, CA 90261. In addition, any person may, upon request, inspect the application, notice and other documents germane to the application in person at the city of Modesto.

Issued in Hawthorne, California, on April 13, 2001.
Herman C. Bliss,
Manager, Airports Division, Western-Pacific Region.

[FR Doc. 01-10240 Filed 4-24-01; 8:45 am]

BILLING CODE 4910-13-M